DEPARTMENT OF HEALTH AND HUMAN SERVICES

Centers for Disease Control and Prevention

[60Day-23-23EH; Docket No. CDC-2023-0030]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed and/or continuing information collection, as required by the Paperwork Reduction Act of 1995. This notice invites comment on a proposed information collection project titled Public Health Emergency Management Capacity Assessment Tool (PHEM Tool). The Center for Disease Control and Prevention's (CDC) Global Emergency Management Capacity Development (GEMCD) team will use the PHEM Tool to assess the public health emergency management (PHEM) program and Public Health Emergency Operations Center (PHEOC) capacity of Global Health Security Agenda (GHSA) countries.

DATES: CDC must receive written comments on or before June 30, 2023.

ADDRESSES: You may submit comments, identified by Docket No. CDC-2023-0030 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Public Health Emergency Management Capacity Assessment Tool (PHEM Tool)—New—Office of Readiness and Response (ORR), Centers for Disease Control and Prevention (CDC).

Background and Brief Description

The Center for Disease Control and Prevention's (CDC) Global Emergency Management Capacity Development (GEMCD) team strengthens emergency management capacity development globally. It helps countries to prepare for, anticipate, and respond to all forms of public health threats. GEMCD's mission is to build resilient Public Health Emergency Management (PHEM) programs throughout the world.

The GEMCD team's Emergency Management Technical Advisors (EMTAs) will use the PHEM Tool to guide an in-person interview with GHSA countries Ministry of Health, Public Health Emergency Operations Center (PHEOC) Manager, and optional additional staff, to characterize the country's PHEM program and capabilities. EMTAs will document responses in an excel based form that will be entered into and maintained in the CDCReady data base. Collected data will identify strengths and weaknesses, capabilities, and gaps in PHEM programs and PHEOCs in GHSA countries. Findings will guide GEMCD team program planning initiatives and determine appropriate technical assistance (TA) for GHSA countries. Data will be analyzed to identify the presence or absence of specific PHEM and PHEOC requirements, such as plans, policies, and procedures, etc. Additional analysis will focus upon the status of PHEM and PHEOC plans, policies, and procedures (e.g., date of publication, relevance). The survey will be conducted annually to identify progress and document changes from one year to the next in terms of PHEM program and PHEOC capabilities.

OMB approval is requested for three years. The estimated annualized burden for this information collection is 72 hours. There is no cost to respondents other than their time.

Estimated Annualized Burden Hours
Type of respondents | Form name | Number of respondents | Number of responses per respondent | Average burden per response (in hours) | Total burden (in hours)
Ministry of Health personnel responsible for Public Health Emergency Management (PHEM) Program in participating GHSA countries | PHEM Tool | 12 | 1 | 6 | 72
Total |  |  |  |  | 72

Jeffrey M. Zirger,
Lead, Information Collection Review Office, Office of Scientific Integrity, Office of Science, Centers for Disease Control and Prevention.

[FR Doc. 2023-09087 Filed 4-28-23; 8:45 am]

BILLING CODE 4163-18-P